OFFICE OF PERSONNEL MANAGEMENT

Submission for Review: OPM Form 1655, Application for Senior Administrative Law Judge, and OPM Form 1655-A, Geographic Preference Statement for Senior Administrative Law Judge Applicant

AGENCY: Office of Personnel Management.

ACTION: 60-Day notice and request for comments.

SUMMARY: The Administrative Law Judge Program Office, Office of Personnel Management (OPM) offers the general public and other federal agencies the opportunity to comment on an information collection request (ICR) 3206-0248, OPM Form 1655, Application for Senior Administrative Law Judge, and OPM Form 1655-A, Geographic Preference Statement for Senior Administrative Law Judge Applicant. OPM is soliciting comments for this collection.

DATES: Comments are encouraged and will be accepted until January 2, 2018.

ADDRESSES: Interested persons are invited to submit written comments on the proposed information collection to the Administrative Law Judge Program Office, Office of Personnel Management, 1900 E Street NW., Washington, DC 20415, Attention: Juanita H. Love, ALJ Program Manager or via electronic mail to juanita.love@opm.gov.

FOR FURTHER INFORMATION CONTACT: A copy of this ICR, with applicable supporting documentation, may be obtained by contacting the Administrative Law Judge Program Office, Office of Personnel Management, 1900 E Street NW., Washington, DC 20415, Attention: Juanita H. Love, ALJ Program Manager or via electronic mail to juanita.love@opm.gov, or call (202) 606-3822.

SUPPLEMENTARY INFORMATION: The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

OPM Form 1655, Application for Senior Administrative Law Judge, and OPM Form 1655-A, Geographic Preference Statement for Senior Administrative Law Judge Applicant, are used by retired Administrative Law Judges seeking reemployment on a temporary and intermittent basis to complete hearings of one or more specified case(s) in accordance with the Administrative Procedure Act of 1946. OPM proposes to revise the information collection for OPM Form 1655 to clarify, in the instructions, who may apply for the Senior ALJ Program and to list States and territories as geographic locations on OPM Form 1655-A.

Analysis

Agency: Administrative Law Judge Program Office, Office of Personnel Management.

Title: OPM Form 1655, Application for Senior Administrative Law Judge, and OPM Form 1655-A, Geographic Preference Statement for Senior Administrative Law Judge Applicant.

OMB Number: 3206-0248.

Frequency: Annually.

Affected Public: Federal Administrative Law Judge Retirees.

Number of Respondents: Approximately 150—OPM Form 1655/Approximately 200—OPM Form 1655-A.

Estimated Time per Respondent: Approximately 30-45 Minutes—OPM Form 1655/Approximately 15-25 Minutes—OPM Form 1655-A.

Total Burden Hours: Estimated 94 hours—OPM Form 1655/Estimated 67 hours—OPM Form 1655-A.

Office of Personnel Management.
Kathleen M. McGettigan,
Acting Director.

[FR Doc. 2017-23955 Filed 11-2-17; 8:45 am]

BILLING CODE 6325-43-P